DEPARTMENT OF THE INTERIOR

Fish and Wildlife Service

[FWS-R4-ES-2020-N066; FXES11140400000-201-FF04E00000]

Endangered Species; Recovery Permit Applications

AGENCY: Fish and Wildlife Service, Interior.

ACTION: Notice of receipt of permit applications; request for comments.

SUMMARY: We, the U.S. Fish and Wildlife Service, have received applications for permits to conduct activities intended to enhance the propagation or survival of endangered species under the Endangered Species Act of 1973, as amended. We invite the public and local, State, Tribal, and Federal agencies to comment on these applications. Before issuing any of the requested permits, we will take into consideration any information that we receive during the public comment period.

DATES: We must receive written data or comments on the applications by July 6, 2020.

ADDRESSES: Reviewing Documents: Documents and other information submitted with the applications are available for review, subject to the requirements of the Privacy Act and Freedom of Information Act. Submit a request for a copy of such documents to Karen Marlowe (see FOR FURTHER INFORMATION CONTACT).

Submitting Comments: If you wish to comment, you may submit comments by one of the following methods:

• U.S. mail: U.S. Fish and Wildlife Service Regional Office, Ecological Services, 1875 Century Boulevard, Atlanta, GA 30345 (Attn: Karen Marlowe, Permit Coordinator).

• Email: permitsR4ES@fws.gov. Please include your name and return address in your email message. If you do not receive a confirmation from the U.S. Fish and Wildlife Service that we have received your email message, contact us directly at the telephone number listed in FOR FURTHER INFORMATION CONTACT.

FOR FURTHER INFORMATION CONTACT: Karen Marlowe, Permit Coordinator, 404-679-7097 (telephone), karen_marlowe@fws.gov (email), or 404-679-7081 (fax). Individuals who are hearing or speech impaired may call the Federal Relay Service at 1-800-877-8339 for TTY assistance.

SUPPLEMENTARY INFORMATION: We invite review and comment from local, State, and Federal agencies and the public on applications we have received for permits to conduct certain activities with endangered and threatened species under section 10(a)(1)(A) of the Endangered Species Act of 1973, as amended (ESA; 16 U.S.C. 1531 et seq.), and our regulations in the Code of Federal Regulations (CFR) at 50 CFR part 17. With some exceptions, the ESA prohibits activities that constitute take of listed species unless a Federal permit is issued that allows such activities. The ESA's definition of “take” includes hunting, shooting, harming, wounding, or killing, and also such activities as pursuing, harassing, trapping, capturing, or collecting.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Before including your address, phone number, email address, or other personal identifying information in your comment, you should be aware that your entire comment—including your personal identifying information—may be made publicly available at any time. While you can ask us in your comment to withhold your personal identifying information from public review, we cannot guarantee that we will be able to do so.

Permit application No. | Applicant | Species | Location | Activity | Type of take | Permit action
TE 41955C-1 | Anthony Miller, Lexington, KY | BATS: Indiana bats (Myotis sodalis), gray bats (Myotis grisescens), northern long-eared bats (Myotis septentrionalis), and Virginia big-eared bats (Corynorhinus townsendii virginianus); FISH: Blackside dace (Phoxinus cumberlandensis) and Kentucky arrow darter (Etheostoma spilotum); MUSSELS: Clubshell (Pleurobema clava), Cumberland bean (Villosa trabilis), Cumberland elktoe (Alasmidonta atropurpurea), Cumberlandian combshell (Epioblasma brevidens), fanshell (Cyprogenia stegaria), fat pocketbook (Potamilus capax), littlewing pearlymussel (Pegias fabula), northern riffleshell (Epioblasma torulosa rangiana), orangefoot pimpleback (Plethobasus cooperianus), oyster mussel (Epioblasma capsaeformis), pink mucket (Lampsilis abrupta), purple cat's paw (Epioblasma obliquata obliquata), ring pink (Obovaria retusa), and rough pigtoe (Pleurobema plenum) | Bats: Alabama, Arkansas, Connecticut, Delaware, District of Columbia, Florida, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming; Fish and Mussels: Kentucky | Presence/absence surveys | Bats: Enter hibernacula and summer roost caves, capture with mist nets or harp traps, handle, identify, band, radio-tag, collect hair samples, light-tag, wing-punch; Fish: Capture with hand nets and seines, handle, identify, and release; Mussels: Remove from the substrate for identification, data collection, and return | Renewal.
TE 67197D-0 | Tyler Black, Chapel Hill, NC | CRAYFISH: Big Sandy crayfish (Cambarus callainus), Guyandotte River crayfish (Cambarus veteranus), and Nashville crayfish (Orconectes shoupi); FISH: Laurel dace (Chrosomus saylori), blue shiner (Cyprinella caerulea), bluemask darter (Etheostoma akatulo), relict darter (Etheostoma chienense), candy darter (Etheostoma osburni), duskytail darter (Etheostoma percnurum), Maryland darter (Etheostoma sellare), Kentucky arrow darter (Etheostoma spilotum), Cumberland darter (Etheostoma susansae), trispot darter (Etheostoma trisella), boulder darter (Etheostoma wapiti), Barrens topminnow (Fundulus julisia), palezone shiner (Notropis albizonatus), Cape Fear shiner (Notropis mekistocholas), smoky madtom (Noturus baileyi) chucky madtom (Noturus crypticus), pygmy madtom (Noturus stanauli), amber darter (Percina antesella), goldline darter (Percina aurolineata), Conasauga logperch (Percina jenkinsi), Roanoke logperch (Percina rex), snail darter (Percina tanasi), and blackside dace (Phoxinus cumberlandensis); MUSSELS: Cumberland elktoe (Alasmidonta atropurpurea), dwarf wedgemussel (Alasmidonta heterodon), Appalachian elktoe (Alasmidonta raveneliana), spectaclecase (Cumberlandia monodonta), fanshell (Cyprogenia stegaria), dromedary pearlymussel (Dromus dromas), yellow lance (Elliptio lanceolata), Tar River spinymussel (Elliptio steinstansana), Cumberlandian combshell (Epioblasma brevidens), oyster mussel (Epioblasma capsaeformis), yellow blossom (Epioblasma florentina florentina), tan riffleshell (Epioblasma florentina walkeri), upland combshell (Epioblasma metastriata), purple cat's paw (Epioblasma obliquata obliquata), southern acornshell (Epioblasma othcaloogensis), green blossom (Epioblasma torulosa gubernaculum), northern riffleshell (Epioblasma torulosa rangiana), tubercled blossom (Epioblasma torulosa torulosa), snuffbox mussel (Epioblasma triquetra), turgid blossom (Epioblasma turgidula), shiny pigtoe (Fusconaia cor), finerayed pigtoe (Fusconaia cuneolus), Atlantic pigtoe (Fusconaia masoni), cracking pearlymussel (Hemistena lata), pink mucket (Lampsilis abrupta), finelined pocketbook (Lampsilis altilis), Alabama lampmussel (Lampsilis virescens), Carolina heelsplitter (Lasmigona decorata), birdwing pearlymussel (Lemiox rimosus), scaleshell mussel (Leptodea leptodon), Alabama moccasinshell (Medionidus acutissimus), Coosa moccasinshell (Medionidus parvulus), ring pink (Obovaria retusa), littlewing pearlymussel (Pegias fabula), white wartyback (Plethobasus cicatricosus), orangefoot pimpleback (Plethobasus cooperianus), sheepnose (Plethobasus cyphyus), clubshell (Pleurobema clava), James spinymussel (Pleurobema collina), southern clubshell (Pleurobema decisum), southern pigtoe (Pleurobema georgianum), Cumberland pigtoe (Pleurobema gibberum), Georgia pigtoe (Pleurobema hanleyianum), ovate clubshell (Pleurobema perovatum), rough pigtoe (Pleurobema plenum), slabside pearlymussel (Pleuronaia dolabelloides), fat pocketbook (Potamilus capax), triangular kidneyshell (Ptychobranchus greenii), fluted kidneyshell (Ptychobranchus subtentum), rabbitsfoot (Quadrula cylindrica cylindrica), rough rabbitsfoot (Quadrula cylindrica strigillata), winged mapleleaf (Quadrula fragosa), Cumberland monkeyface (Quadrula intermedia), Appalachian monkeyface (Quadrula sparsa), pale lilliput (Toxolasma cylindrellus), rayed bean (Villosa fabalis), purple bean (Villosa perpurpurea), and Cumberland bean (Villosa trabalis); SNAILS: Anthony's riversnail (Athearnia anthonyi) | Delaware, Kentucky, Maryland, New Jersey, North Carolina, Pennsylvania, South Carolina, Tennessee, Virginia, and West Virginia | Presence/ absence surveys, population monitoring, genetic sampling, collection for propagation and translocation | Capture, handle, identify, mark, tag, collect tissue samples, and release | New.
TE 66039A-1 | Arkansas Game and Fish Commission, Benton, AR | AMPHIBIANS: Ozark hellbender (Cryptobranchus alleganiensis bishopi); MUSSELS: Ouachita rock pocketbook (Arkansia wheeleri), snuffbox mussel (Epioblasma triquetra), Arkansas fatmucket (Lampsilis powellii), speckled pocketbook (Lampsilis streckeri), Neosho mucket (Lampsilis rafinesqueana), rabbitsfoot (Quadrula cylindrica cylindrica), and winged mapleleaf (Quadrula fragosa) | Arkansas | Captive propagation and release | Capture, transport, artificially propagate, and release | Renewal and amendment.
TE 68453D-0 | Andrew Edelman, University of West Georgia, Carrolton, GA | Gray bat (Myotis grisescens), northern long-eared bat (Myotis septentrionalis), and Indiana bat (Myotis sodalis) | Alabama, Georgia, and South Carolina | Presence/absence surveys, population monitoring | Enter hibernacula and maternity roost caves, mist-net, capture, handle, band, radio-tag, and collect hair samples | New.
TE 040792-5 | US Forest Service—Savannah River Site, New Ellenton, SC | Red-cockaded woodpecker (Picoides borealis) | Arkansas, Florida, Georgia, Louisiana, Mississippi, North Carolina, and South Carolina | Population management and monitoring | Capture, band, monitor nest cavities, construct and monitor artificial nest cavities and restrictors, and translocate | Renewal and amendment.
TE 697819-5 | US Fish and Wildlife Service, Atlanta, GA | All endangered species in the Southeast Region | Alabama, Arkansas, Florida, Georgia, Kentucky, Louisiana, Mississippi, North Carolina, South Carolina, Tennessee, Commonwealth of Puerto Rico, and U.S. Virgin Islands | All activities in furtherance of the U.S. Fish and Wildlife Service's mission to conserve endangered wildlife and plants and the ecosystems upon which they depend | Conduct take of endangered species of wildlife wherever found and removal and reduction to possession of endangered species of plants from lands under Federal jurisdiction in the Southeast Region | Renewal.
TE 075925-3 | Shaw Air Force Base, Columbia, SC | Red-cockaded woodpecker (Picoides borealis) | Alabama, Florida, Georgia, Louisiana, Mississippi, North Carolina, South Carolina, Texas, and Virginia | Population management and monitoring | Capture, band, monitor nest cavities, construct and monitor artificial nest cavities and restrictors, and translocate | Renewal and amendment.
TE 70041D-0 | Kristina Witter, Jacksonville, FL | Red-cockaded woodpecker (Picoides borealis) | Alabama, Arkansas, Florida, Georgia, Kentucky, Louisiana, Mississippi, North Carolina, South Carolina, and Tennessee | Population management and monitoring | Capture, band, monitor nest cavities, construct and monitor artificial nest cavities and restrictors, and translocate | New.
TE 35594A-4 | Alabama Power Company, Birmingham, AL | Rush darter (Etheostoma phytophilum) and trispot darter (Etheostoma trisella) | Alabama | Presence/absence surveys | Capture with hand nets and seines, handle, identify, and release | Amendment.
TE 108584-7 | Tim Nehus, Lebanon, TN | CRAYFISH: Nashville crayfish (Orconectes shoupi); MUSSELS: Birdwing pearlymussel (Conradilla caelata), oyster mussel (Epioblasma capsaeformis), tan riffleshell (Epioblasma walkeri), Cumberland monkeyface (Quadrula intermedia), orangefoot pimpleback (Plethobasus cooperianus), Cumberland elktoe (Alasmidonta atropurpurea), Appalachian elktoe (Alasmidonta raveneliana), fanshell (Cyprogenia stegaria), dromedary pearlymussel (Dromus dromas), Cumberlandian combshell (Epioblasma brevidens), yellow-blossom pearlymussel (Epioblasma florentina), upland combshell (Epioblasma metastriata), Southern acornshell (Epioblasma othcaloogensis), green blossom pearlymussel (Epioblasma torulosa gubernaculum), tuberculed-blossom pearlymussel (Epioblasma torulosa torulosa), turgid blossom pearlymussel (Epioblasma turgidula), purple cat's paw (Epioblasma obliquata obliquata), fine-lined pocketbook (Lampsilis altilis), pink mucket pearlymussel (Lampsilis abrupta), Alabama lampmussel (Lampsilis virescens), Alabama moccasinshell (Medionidus acutissimus), Coosa moccasinshell (Medionidus parvulus), ring pink mussel (Obovaria retusa), little-wing pearlymussel (Pegias fabula), white wartyback (Plethobasus cicatricosus), clubshell (Pleurobema clava), Southern clubshell (Pleurobema decisum), Southern pigtoe (Pleurobema georgianum), Cumberland pigtoe (Pleurobema gibberum), ovate clubshell (Pleurobema perovatum), rough pigtoe (Pleurobema plenum), triangular kidneyshell (Ptychobranchus greeni), rough rabbitsfoot (Quadrula cylindrica strigillata), winged mapleleaf (Quadrula fragosa), Appalachian monkeyface (Quadrula sparsa), pale lilliput (Toxolasma cylindrellus), Cumberland bean pearlymussel (Villosa trabalis), and purple bean (Villosa perpurpurea); FISH: Blue shiner (Cyprinella caerulea), bluemask darter (Etheostoma akatulo), duskytail darter (Etheostoma percnurum), boulder darter (Etheostoma wapiti), palezone shiner (Notropis albizonatus), smoky madtom (Noturus baileyi), yellowfin madtom (Noturus flavipinnis), pygmy madtom (Noturus stanauli), amber darter (Percina antesella), Conasauga logperch (Percina jenkinsi), snail darter (Percina tanasi), and blackside dace (Phoxinus cumberlandensis) | Tennessee | Presence/absence surveys | Capture, identify, measure, sex, and release | Renewal.
TE 59798B-2 | Daguna Consulting, LLC, Rochester, MN | Cumberland elktoe (Alasmidonta atropurpurea), Appalachian elktoe (Alasmidonta raveneliana), birdwing pearlymussel (Conradilla caelata), spectaclecase (Cumberlandia monodonta), fanshell (Cyprogenia stegaria), dromedary pearlymussel (Dromus dromus), Cumberlandian combshell (Epioblasma brevidens), oyster mussel (Epioblasma capsaeformis), yellow-blossom pearlymussel (Epioblasma florentina), green-blossom pearlymussel (Epioblasma torulosa gubernaculum), tuberculed-blossom pearlymussel (Epioblasma torulosa torulosa), snuffbox (Epioblasma triquetra), turgid-blossom pearlymussel (Epioblasma turgidula), tan riffleshell (Epioblasma walkeri), fine-rayed pigtoe (Fusconaia cuneolus), shiny pigtoe (Fusconia cor), cracking pearlymussel (Hemistena lata), pink mucket pearlymussel (Lampsilis abrupta), Higgins eye (Lampsilis higginsii), Alabama lampmussel (Lampsilis virescens), scaleshell (Leptodea leptodon), slabside pearlymussel (Lexingtonia dolabelloides), little-wing pearlymussel (Pegias fabula), sheepnose (Plethobasus cyphyus), clubshell (Pleurobema clava), rough pigtoe (Pleurobema plenum), fat pocketbook (Potamilus capax), fluted kidneyshell (Ptychobranchus subtentum), rough rabbitsfoot (Quadrula cylindrica strigillata), winged mapleleaf (Quadrula fragosa), Cumberland monkeyface (Quadrula intermedia), Appalachian monkeyface (Quadrula sparsa), pale lilliput (Toxolasma cylindrellus), purple bean (Villosa perpurpurea), and Cumberland bean pearlymussel (Villosa trabalis) | Illinois, Iowa, Minnesota, Tennessee, and Wisconsin | Presence/absence surveys | Capture, handle, identify, measure, age by examining shell growth rings, sex, photograph, PIT-tag or plastic shell tag, mark, and release | Renewal.
TE 71050D-0 | Brett Andersen, Papillion, NE | Northern long-eared bat (Myotis septentrionalis) and Indiana bat (Myotis sodalis) | Alabama, Arkansas, Connecticut, Delaware, District of Columbia, Georgia, Illinois, Indiana, Iowa, Kansas, Kentucky, Louisiana, Maine, Maryland, Massachusetts, Michigan, Minnesota, Mississippi, Missouri, Montana, Nebraska, New Hampshire, New Jersey, New York, North Carolina, North Dakota, Ohio, Oklahoma, Pennsylvania, Rhode Island, South Carolina, South Dakota, Tennessee, Vermont, Virginia, West Virginia, Wisconsin, and Wyoming | Presence/absence surveys and habitat use studies | Enter hibernacula, capture with mist-nets and harp traps, handle, band, and radio-tag | New.
TE 178815-1 | Kentucky Department of Fish and Wildlife Resources, Frankfort, KY | Cumberland elktoe (Alasmidonta atropurpurea), fanshell (Cyprogenia stegaria), dromedary pearlymussel (Dromus dromus), Cumberlandian combshell (Epioblasma brevidens), oyster mussel (Epioblasma capsaeformis), yellow-blossom pearlymussel (Epioblasma florentina), purple cat's paw (Epioblasma obliquata obliquata), white cat's paw (Epioblasma sulcate perobliqua), green-blossom pearlymussel (Epioblasma torulosa gubernaculum), tan blossom pearlymussel (Epioblasma torulosa rangiana), tuberculed-blossom pearlymussel (Epioblasma torulosa torulosa), turgid-blossom pearlymussel (Epioblasma turgidula), tan riffleshell (Epioblasma walkeri), crackling pearlymussel (Hemistena lata), pink mucket pearlymussel (Lampsilis abrupta), Higgins eye (Lampsilis higginsii), Alabama lampmussel (Lampsilis virescens), scaleshell (Leptodea leptodon), ring pink mussel (Obovaria retusa), little-wing pearlymussel (Pegias fabula), white wartyback mussel (Plethobasus cicatricosus), sheepnose (Plethobasus cyphyus), clubshell (Pleurobema clava), orange footed pimpleback (Plethobasus cooperianus), rough pigtoe (Pleurobema plenum), fat pocketbook (Potamilus capax), rough rabbitsfoot (Quadrula cylindrica strigillata), winged mapleleaf (Quadrula fragosa), Appalachian monkeyface (Quadrula sparsa), and Cumberland bean pearlymussel (Villosa trabalis) | Kentucky | Captive propagation and release | Capture, handle, transport, propagate, and release | Renewal.
TE 142806-2 | James Cox, Tall Timbers Research Station, Tallahassee, FL | Red-cockaded woodpecker (Picoides borealis) | Florida and Georgia | Population management and monitoring | Capture, band, monitor nest cavities, construct and monitor artificial nest cavities and restrictors, and translocate | Renewal.
TE 71653D-0 | The Nature Conservancy, Camp Shelby, MS | Louisiana quillwort (Isoetes louisianensis) | Department of Defense lands and Desoto National Forest lands within Camp Shelby, Mississippi DeSoto National Forest | Demographic and life history study | Collect leaves, sporophylls, and whole plants | New.
TE 72782D-0 | Michael Cove, Zebulon, NC | Key Largo woodrat (Neotoma floridana smalli) and Key Largo cotton mouse (Peromyscus gossypinus allapaticola) | Crocodile Lake National Wildlife Refuge and Dagny Johnson Botanical State Park, Key Largo, Monroe County, Florida | Presence/absence surveys, nest monitoring, and population monitoring | Capture, ear-tag, radio-tag, PIT-tag, release, and insert data loggers into nests | New.
TE 38906B-1 | National Park Service, Christiansted, VI | Loggerhead sea turtle (Caretta caretta), green sea turtle (Chelonia mydas), leatherback sea turtle (Dermochelys coriacea) and hawksbill sea turtle (Eretmochelys imbricata) | Buck Island Reef National Monument, St. Croix, U.S. Virgin Islands | Population monitoring and scientific research | Capture, restrain, handle, relocate nests, excavate hatched nests, collect tissue, blood, and carapace samples, PIT-tag, attach flipper, acoustic, and satellite tags | Renewal and amendment.

Authority

We publish this notice under section 10(c) of the Endangered Species Act of 1973, as amended (16 U.S.C. 1531 et seq.).

John Tirpak,
Deputy Assistant Regional Director, Ecological Services.

[FR Doc. 2020-11994 Filed 6-2-20; 8:45 am]

BILLING CODE 4333-15-P